DEPARTMENT OF THE TREASURY

Office of the Comptroller of the Currency

[Docket ID OCC-2018-0024]

Mutual Savings Association Advisory Committee and Minority Depository Institutions Advisory Committee

AGENCY: Office of the Comptroller of the Currency, Department of the Treasury (OCC).

ACTION: Request for nominations.

SUMMARY: The OCC is seeking nominations for members of the Mutual Savings Association Advisory Committee (MSAAC) and the Minority Depository Institutions Advisory Committee (MDIAC). The MSAAC and the MDIAC assist the OCC in assessing the needs and challenges facing mutual savings associations and minority depository institutions, respectively. The OCC is seeking nominations of individuals who are officers and/or directors of federal mutual savings associations, or officers and/or directors of federal stock savings associations that are part of a mutual holding company structure, to be considered for selection as MSAAC members. The OCC also is seeking nominations of individuals who are officers and/or directors of OCC-regulated minority depository institutions, or officers and/or directors of other OCC-regulated depository institutions with a commitment to supporting minority depository institutions, to be considered for selection as MDIAC members.

DATES: Nominations must be received on or before October 15, 2018.

ADDRESSES: Nominations of MSAAC members should be sent to msaac.nominations@occ.treas.gov or mailed to: Michael R. Brickman, Deputy Comptroller for Thrift Supervision, 400 7th Street SW, Washington, DC 20219.

Nominations of MDIAC members should be sent to mdiac.nominations@occ.treas.gov or mailed to: Beverly F. Cole, Deputy Comptroller for Compliance Supervision, 400 7th Street SW, Washington, DC 20219.

FOR FURTHER INFORMATION CONTACT: For inquiries regarding the MSAAC, Michael R. Brickman, Deputy Comptroller for Thrift Supervision, 400 7th Street SW, Washington, DC 20219; (202) 649-6450; email: msaac.nominations@occ.treas.gov.

For inquiries regarding the MDIAC, Beverly F. Cole, Deputy Comptroller for Compliance Supervision, 400 7th Street SW, Washington, DC 20219; (202) 649-5688; email: mdiac.nominations@occ.treas.gov.

SUPPLEMENTARY INFORMATION: The MSAAC and the MDIAC will be administered in accordance with the Federal Advisory Committee Act, 5 U.S.C. App. 2. The MSAAC will advise the OCC on ways to meet the goals established by section 5(a) of the Home Owners' Loan Act, 12 U.S.C. 1464. The MSAAC will advise the OCC with regard to mutual savings associations on means to: (1) Provide for the organization, incorporation, examination, operation and regulation of associations to be known as federal savings associations (including federal savings banks); and (2) issue charters therefore, giving primary consideration of the best practices of thrift institutions in the United States. The MSAAC will help meet those goals by providing the OCC with informed advice and recommendations regarding the current and future circumstances and needs of mutual savings associations. The MDIAC will advise the OCC on ways to meet the goals established by section 308 of the Financial Institutions Reform, Recovery, and Enforcement Act of 1989, Public Law 101-73, Title III, 103 Stat. 353, 12 U.S.C. 1463 note. The goals of section 308 are to preserve the present number of minority institutions, preserve the minority character of minority-owned institutions in cases involving mergers or acquisitions, provide technical assistance, and encourage the creation of new minority institutions. The MDIAC will help the OCC meet those goals by providing informed advice and recommendations regarding a range of issues involving minority depository institutions. Nominations should describe and document the proposed member's qualifications for MSAAC or MDIAC membership, as appropriate. Existing MSAAC or MDIAC members may reapply themselves or may be renominated. The OCC will use this nomination process to achieve a balanced advisory committee membership and ensure that diverse views are represented among the membership of officers and directors of mutual and minority institutions. The MSAAC and MDIAC members will not be compensated for their time, but will be eligible for reimbursement of travel expenses in accordance with applicable federal law and regulations.

Dated: August 21, 2018.
Joseph M. Otting,
Comptroller of the Currency.

[FR Doc. 2018-18493 Filed 8-24-18; 8:45 am]

BILLING CODE 4810-33-P